DEPARTMENT OF LABOR

Employment and Training Administration

[Nafta-05208]

Dunlap Sales, Inc.; Hopkinsville, Kentucky; Dismissal of Application for Reconsideration

Pursuant to 29 CFR 90.18(C) an application for administrative reconsideration was filed with the Director of the Division of Trade Adjustment Assistance for workers at Dunlap Sales, Inc., Hopkinsville, Kentucky. The application contained no new substantial information which would bear importantly on the Department's determination. Therefore, dismissal of the application was issued.

NAFTA-05208; Dunlap Sales, Inc.

Hopkinsville, Kentucky (January 3, 2002)

Signed at Washington, DC this 10th day of January, 2002.
Edward A. Tomchick,
Director, Division of Trade Adjustment Assistance.

[FR Doc. 02-1776 Filed 1-23-02; 8:45 am]

BILLING CODE 4510-10-M